DEPARTMENT OF EDUCATION

Office of Special Education and Rehabilitative Services; Notice Reopening the State Vocational Rehabilitation Unit In-Service Training Program Fiscal Year (FY) 2005 Competition

Catalog of Federal Domestic Assistance (CFDA) Number: 84.265A

SUMMARY: On April 28, 2005, we published in the Federal Register (70 FR 22006) a notice inviting applications for the State Vocational Rehabilitation Unit In-Service Training program's FY 2005 competition. The original notice for this FY 2005 competition established a June 13, 2005, deadline for eligible applicants to apply for funding under this program.

In order to afford as many eligible applicants as possible an opportunity to receive funding under this program, we are reopening the State Vocational Rehabilitation Unit In-Service Training program FY 2005 competition. The new application deadline date for the competition is July 21, 2005.

DATES: Deadline for Transmittal of Applications: July 21, 2005. (applications must be received by the Electronic Grant Application System (e-Application) no later than 4:30 p.m., Washington, DC time).

Note: Applications for grants under the State Vocational Rehabilitation Unit In-Service Training program must be submitted electronically using the Electronic Grant Application System (e-Application) available through the Department's e-Grants system. You may not e-mail an electronic copy of a grant application to us. For information about how to submit your application electronically, please refer to section IV. 6. Other Submission Requirements in the April 28, 2005, notice (70 FR 22008). We have not extended the deadline for submitting a statement that an applicant qualifies for an exception to the electronic submission requirement.

Deadline for Intergovernmental Review: The deadline date for Intergovernmental Review under Executive Order 12372 is extended to September 19, 2005.

FOR FURTHER INFORMATION CONTACT: Marilyn P. Fountain, U.S. Department of Education, 400 Maryland Avenue, SW., Room 5028, Potomac Center Plaza, Washington, DC 20202-2550. Telephone: (202) 245-7346 or by e-mail: Marilyn.Fountain@ed.gov.

If you use a telecommunications device for the deaf (TDD), you may call the Federal Relay Service (FRS) at 1-800-877-8339.

Individuals with disabilities may obtain this document in an alternative format (e.g., Braille, large print, audiotape, or computer diskette) on request to the program contact person listed in this section.

SUPPLEMENTARY INFORMATION: Any eligible applicant may apply for funding under this program by the deadline date in this notice. Eligible applicants that submitted their applications in a timely manner for the State Vocational Rehabilitation Unit In-Service Training program FY 2005 competition to the Department on or before 4:30 p.m. on the competition's original deadline date of June 13, 2005, are not required to resubmit their applications or reapply in order to be considered for FY 2005 awards under this program. We encourage eligible applicants to submit their applications as soon as possible to avoid any problems with filing electronic applications on the last day. The deadline for submission of applications will not be extended any further.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 11, 2005.
John H. Hager,
Assistant Secretary for Special Education and Rehabilitative Services.

[FR Doc. 05-13894 Filed 7-13-05; 8:45 am]

BILLING CODE 4000-01-M